DEPARTMENT OF HEALTH AND HUMAN SERVICES

National Institutes of Health

National Cancer Institute; Amended Notice of Meeting

Notice is hereby given of a change in the meeting of the National Cancer Institute Special Emphasis Panel, March 24, 2011, 12 p.m. to March 24, 2011, 2 p.m., National Institutes of Health, 6116 Executive Boulevard, 706, Rockville, MD 20852 which was published in the Federal Register on February 1, 2011, 76 FR 5595.

This notice is amending the name of the committee from “Detection of Cancer Biomarkers on a Universal Nanoplatform” to “Nanotechnology Imaging and Sensing Platforms for Improved Diagnosis of Cancer”. The meeting is closed to the public.

Dated: February 25, 2011.
Jennifer S. Spaeth,
Director, Office of Federal Advisory Committee Policy.

[FR Doc. 2011-4775 Filed 3-2-11; 8:45 am]

BILLING CODE 4140-01-P